DEPARTMENT OF HOMELAND SECURITY

Coast Guard

33 CFR Part 165

[Docket No. USCG-2012-0309]

Safety Zone, Chicago Harbor, Navy Pier East, Chicago, IL

AGENCY: Coast Guard, DHS.

ACTION: Notice of enforcement of regulation.

SUMMARY: The Coast Guard will enforce the Navy Pier East Safety Zone within the Chicago Harbor on June 27, 2017. This action is necessary and intended to ensure the safety of life and property on navigable waters prior to, during, and immediately after the fireworks display. During the enforcement period listed below, the Coast Guard will enforce restrictions upon, and control movement of vessels that transit this regulated area with the approval from the Captain of the Port Lake Michigan.

DATES: The regulation in 33 CFR 165.933 will be enforced from 8:45 p.m. until 9:45 p.m. on June 27, 2017.

FOR FURTHER INFORMATION CONTACT: If you have questions about this notice of enforcement, call or email LT Lindsay Cook, Waterways Management Division, Marine Safety Unit Chicago, at 630-986-2155, email address D09-DG-MSUChicago-Waterways@uscg.mil.

SUPPLEMENTARY INFORMATION: The Coast Guard will enforce Safety Zone; Chicago Harbor, Navy Pier East, Chicago, IL listed in 33 CFR 165.933, on June 27, 2017 from 8:45 p.m. until 9:45 p.m., for a barge based fireworks display. This action is being taken to provide for the safety of life and property on navigable waterways before, during, and immediately after the fireworks display. As specified in 33 CFR 165.933 this safety zone encompasses all waters of Lake Michigan within Chicago Harbor between the east end of Navy Pier and the Chicago Harbor breakwater bounded by coordinates beginning at 41°53′37″ N., 087°35′26″ W.; then south to 41°53′24″ N., 087°35′26″ W.; then east to 41°53′24″ N., 087°35′55″ W.; then north to 41°53′37″ N., 087°35′55″ W.; then back to the point of origin (NAD 83). During the enforcement period, no vessel may transit this regulated area without approval from the Captain of the Port Lake Michigan or a Captain of the Port designated representative. Vessels and persons granted permission to enter the safety zone shall obey all lawful orders or directions of the Captain of the Port Lake Michigan, or his or her on-scene representative.

This notice of enforcement is issued under authority of 33 CFR 165.931 and 5 U.S.C. 552 (a). In addition to this notice in the Federal Register, the Coast Guard will provide the maritime community with advance notice of this enforcement via Broadcast Notice to Mariners and listing this event in the Local Notice to Mariners. If the Captain of the Port or a designated representative determines that the regulated area need not be enforced for the full duration stated in this notice, he or she may use a Broadcast Notice to Mariners to grant general permission to enter the regulated area. The Captain of the Port Lake Michigan or a designated on-scene representative may be contacted via Channel 16, VHF-FM.

Dated: May 4, 2017.
A.B. Cocanour,
Captain, U.S. Coast Guard, Captain of the Port Lake Michigan.

[FR Doc. 2017-09444 Filed 5-9-17; 8:45 am]

BILLING CODE 9110-04-P